DEPARTMENT OF ENERGY

Federal Energy Regulatory Commission

[Project No. 7189-015]

Green Lake Water Power Company; Notice of Revised Procedural Schedule for Environmental Assessment for the Proposed Project Relicense

On March 31, 2022, Green Lake Water Power Company filed an application for a subsequent license to continue to operate and maintain the 425-kilowatt Green Lake Hydroelectric Project No. 7189 (Green Lake Project). On May 31, 2023, Commission staff issued a notice of intent to prepare an environmental assessment (EA) to evaluate the effects of relicensing the Green Lake Project. The notice included an anticipated schedule for issuing the EA.

By this notice, Commission staff is updating the procedural schedule for completing the EA. The revised schedule is shown below. Further revisions to the schedule may be made as appropriate.

¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, 4336a, 137 Stat. 42.

Milestone | Target date
Issue EA | May 2024.¹

Any questions regarding this notice may be directed to Amanda Gill at (202) 502-6773, or by email at amanda.gill@ferc.gov.

Dated: April 11, 2024.
Debbie-Anne A. Reese,
Acting Secretary.

[FR Doc. 2024-08199 Filed 4-16-24; 8:45 am]

BILLING CODE 6717-01-P